DEPARTMENT OF THE INTERIOR

Bureau of Indian Affairs

Draft Environmental Impact Statement for the Proposed Cordova Oil Spill Response Facility, Cordova, AL

AGENCY: Bureau of Indian Affairs, Interior.

ACTION: Notice.

SUMMARY: This notice advises the public that the Bureau of Indian Affairs (BIA) intends to file a Draft Environmental Impact Statement (DEIS) with the U.S. Environmental Protection Agency for a proposed oil spill response facility at Shepard Point, near Cordova, Alaska, and that the DEIS is now available for public review. The purpose of the proposed project is to provide a deepwater staging facility for the rapid deployment of equipment to the site of an oil spill. This notice also announces a hearing for the public to provide comments on the DEIS.

DATES: Written comments on the DEIS must arrive by February 6, 2006.

Public hearings will be held on the following dates and times:

1. January 11, 2006, 5:30 p.m. to 9 p.m., Anchorage, Alaska.

2. January 12, 2006, 5:30 p.m. to 9 p.m., Cordova, Alaska.

ADDRESSES: You may mail written comments to Kristin K'eit, Bureau of Indian Affairs, Alaska Regional Office, Division of Environmental and Cultural Resource Management, P.O. Box 25520, Juneau, Alaska 99802-5520. You may also fax your comments to (907) 586-7044, or submit them electronically at the project Web site, http://www.cordovarf@urscorp.com.

Note: BIA cannot receive electronic comments directly via e-mail at this time.

Please include your name, return address, and the caption, “DEIS Comments, Proposed Cordova Oil Spill Response Facility, Cordova, Alaska,” on the first page of your written comments. To obtain a copy of the DEIS, please contact Kristen K'eit by mail at the above mailing address or by telephone at the number provided below. Copies of the DEIS are available for public review at the above mailing address. Copies of the DEIS have also been sent to agencies and individuals who participated in the scoping process and to all others who have previously requested copies of the document.

The locations of the public hearings are as follows:

1. Anchorage—Alaska Pacific University, Carr Gottstein Building, 4101 University Drive, Room 102, Anchorage, Alaska.

2. Cordova—Mt. Eccles Elementary School, 201 Adams Street, Cordova, Alaska.

FOR FURTHER INFORMATION CONTACT: Kristin K'eit, (907) 586-7423.

SUPPLEMENTARY INFORMATION: On behalf of the Native Village of Eyak, in accordance with the Agreement and Consent Decree in the Exxon Valdez Case (Case No. A89-095 CI [consolidated] and Case No. A92-175 CI [Ex. A]) and as mandated by the State of Alaska in the 1993, Alyeska settlement (HB 165), the BIA proposes to design and build a deep-water port and oil spill response facility at Shepard Point near Cordova, Alaska.

The BIA's preferred alternative is Alternative 4, a new oil spill response facility at Shepard Point near Cordova, Alaska. The proposed facility would consist of (1) a dedicated deepwater port, (2) additional staging and storage area; and (3) an access road to the Cordova road system. The facility would allow all-tide transfer of out-of-region supplies such as boom, skimmer, sorbents, anchors, tools, and personal protective equipment from the all-weather airport at Cordova to a wider variety of response vessels than can currently use Cordova's port. The NEPA document is required due to the potential effects of the project.

Public Comment Availability

Comments, including names and addresses of respondents, will be available for public review at the mailing address shown in the ADDRESSES section during regular business hours, 7:30 a.m. to 4 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses and from individuals identifying themselves as representatives or officials of organizations or businesses will be made available for public inspection in their entirety.

Authority

This notice is published in accordance with section 1503.1 of the Council on Environmental Quality regulations (40 CFR parts 1500 through 1508) implementing the procedural requirements of the National Environmental Policy Act of 1969, as amended (42 U.S.C. 4321 et seq.), and the Department of Interior Manual (516 DM 1-6), and is in the exercise of authority delegated to the Principal Deputy Assistant Secretary—Indian Affairs by 209 DM 8.

Dated: December 16, 2005.
Michael D. Olsen,
Acting Principal Deputy Assistant Secretary—Indian Affairs.

[FR Doc. E5-7662 Filed 12-21-05; 8:45 am]

BILLING CODE 4310-W7-P